DEPARTMENT OF HOMELAND SECURITY

Coast Guard

[Docket No. USCG-2008-0126]

Application for the Tank Ship S/R AMERICAN PROGRESS, Review for the Inclusion in the Shipboard Technology Evaluation Program; Draft Environmental Assessment

AGENCY: Coast Guard, DHS.

ACTION: Notice of availability and request for public comments.

SUMMARY: The Coast Guard announces the availability of the Draft Environmental Assessment (DEA) for the tank ship S/R AMERICAN PROGRESS. The DEA describes the S/R AMERICAN PROGRESS' application for the Shipboard Technology Evaluation Program (STEP) Ballast Water Management System (BWMS) demonstration initiative. The DEA for the S/R AMERICAN PROGRESS also addresses effects on the human and natural environments from installing, testing, and using the Severn Trent De Nora BalPure™ ballast water treatment system as the vessel operates in U.S. waters.

DATES: Comments and related materials must either be submitted to our online docket via http://www.regulations.gov on or before December 31, 2008, or reach the Docket Management Facility by that date.

ADDRESSES: You may submit comments identified by docket number USCG-2008-0126 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these methods. For instructions on submitting comments, see the “Public Participation and Request for Comments” portion of the SUPPLEMENTARY INFORMATION section below.

FOR FURTHER INFORMATION CONTACT: If you have questions on the Draft Environmental Assessment (DEA) please contact LCDR Brian Moore, telephone 202-372-1434 or e-mail: brian.e.moore@uscg.mil. If you have questions on viewing or submitting material to the docket, please call Renee V. Wright, Program Manager, Docket Operations, telephone 202-366-9826.

SUPPLEMENTARY INFORMATION:

Request for Comments

We encourage you to submit comments and related materials about the Draft Environmental Assessment (DEA) described in this notice. All comments received will be posted, without change, to http://www.regulations.gov and will include any personal information you have provided.

Submitting comments: If you submit a comment, please include the docket number for this notice (USCG-2008-0126) and provide a reason for each suggestion or recommendation. You may submit your comments and material online, or by fax, mail or hand delivery, but please use only one of these means. We recommend that you include your name and a mailing address, an e-mail address, or a phone number in the body of your document so that we can contact you if we have questions regarding your submission.

To submit your comment online, go to http://www.regulations.gov, select the Advanced Docket Search option on the right side of the screen, insert “USCG-2008-0126” in the Docket ID box, press Enter, and then click on the balloon shape in the Actions column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and DEA: To view the comments and DEA go to http://www.regulations.gov, select the Advanced Docket Search option on the right side of the screen, insert USCG-2008-0126 in the Docket ID box, press Enter, and then click on the item in the Docket ID column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316, Jan. 17, 2008).

Public Meetings

We do not intend to hold any public meetings in association with this DEA.

Background and Purpose

In the Nonindigenous Aquatic Nuisance Prevention and Control Act of 1990, as reauthorized, and as amended by the National Invasive Species Act of 1996, Public Law 101-646 and Public Law 104-332, respectively, Congress directed the Coast Guard to prevent introduction of aquatic nonindigenous species from ballast water discharged by ships (16 U.S.C. 4711). To achieve this objective, the Coast Guard wrote new regulations in 33 CFR 151, subparts C and D (58 FR 18330, Apr. 8, 1993, and 69 FR 44952, Jul. 28, 2004, respectively).

On December 8, 2004, the Coast Guard published a notice in the Federal Register (69 FR 71068, Dec. 8, 2004), announcing its Shipboard Technology Evaluation Program (STEP) for experimental shipboard ballast water treatment systems. The program goal is to promote development of alternatives to ballast water exchange as a means of preventing invasive species from entering U.S. waters through ships' ballast water. The comments we received support testing prototype treatment equipment and developing effective and practicable standards for approving this equipment.

In accordance with the National Environmental Policy Act of 1969 (Section 102(2)(c)), as implemented by the Council of Environmental Quality regulations in 40 CFR parts 1500-1508, and Coast Guard Commandant Instruction M16475.1D, “National Environmental Policy Act Implementing Procedures and Policy for Considering Environmental Impacts”, the Coast Guard prepared a Programmatic Environmental Assessment (PEA) for the STEP to evaluate the environmental impacts from installing and operating a limited number of prototype ballast water treatment systems (69 FR 71068, Dec. 8, 2004). The PEA can be found in docket USCG-2001-9267. That PEA addresses potential effects to the natural and human environments including fish, marine mammals, invertebrates, microorganisms and plankton, submerged and emergent species, threatened and endangered species, and essential fish habitat. It also requires each system to be evaluated for localized affects on the ports and waterways where a vessel involved in the program operates.

We request your comments on the potential impacts of installing, using, and testing the Severn Trent De Nora BalPure™ Ballast Water Treatment System on the tank ship S/R AMERICAN PROGRESS, as analyzed in the DEA. We also request your comments on sources of data, reference material, or other information not included in the DEA. Your comments will be considered in preparing a Final Environmental Assessment for the S/R AMERICAN PROGRESS.

Dated: November 21, 2008.
Brian M. Salerno,
Rear Admiral, U.S. Coast Guard, Assistant Commandant for Marine Safety, Security and Stewardship.

[FR Doc. E8-28463 Filed 11-28-08; 8:45 am]

BILLING CODE 4910-15-P